DEPARTMENT OF JUSTICE

Parole Commission

Sunshine Act Meeting

ACTION: Public Announcement of meeting pursuant to the Government in the Sunshine Act (Public Law 94-409; 5 U.S.C. Section 552b).

Agency Holding Meeting: Department of Justice, United States Parole Commission.

Time and Date: 9:30 a.m., Friday, June 22, 2001.

Place: 5550 Friendship Blvd., Fourth Floor, Chevy Chase, MD 20815.

Status: Open.

Matters to be Considered: The following matters have been placed on the agenda for the open Parole Commission meeting:

1. Approval of minutes of previous Commission meeting.

2. Reports from the Chairman, Commissioners, Legal, Chief of Staff, Case Operations, and Administrative Sections.

3. Discussion on recommended revision of 28 CFR § 2.81(d) concerning the procedures for reparole hearings in District of Columbia Code cases.

Agency Contact: Sam Robertson, Case Operations, United States Parole Commission, (301) 492-5962.

Dated: June 15, 2001.
Michael A. Stover,
General Counsel, U.S. Parole Commission.

[FR Doc. 01-15598 Filed 6-18-01; 1:06 pm]

BILLING CODE 4410-31-M